DEPARTMENT OF JUSTICE

Drug Enforcement Administration

Importer of Controlled Substances; Notice of Registration

By a Notice dated June 24, 2009, and published in the Federal Register on July 9, 2009 (74 FR 32954) and by a second Notice (Correction) dated August 21, 2009, and published in the Federal Register on September 8, 2009 (74 FR 46229), Rhodes Technologies, 498 Washington Street, Coventry, Rhode Island 02816, made application by renewal to the Drug Enforcement Administration (DEA) to be registered as an importer of the basic classes of controlled substances listed in schedule II:

Drug | Schedule
Raw Opium (9600) | II
Concentrate of Poppy Straw (9670) | II

The company plans to import the listed controlled substances to manufacture bulk active pharmaceutical ingredients.

No comments or objections have been received. DEA has considered the factors in 21 U.S.C 823(a) and § 952(a), and determined that the registration of Rhodes Technologies to import the basic classes of controlled substances is consistent with the public interest, and with United States obligations under international treaties, conventions, or protocols in effect on May 1, 1971, at this time. DEA has investigated Rhodes Technologies to ensure that the company's registration is consistent with the public interest. The investigation has included inspection and testing of the company's physical security systems, verification of the company's compliance with state and local laws, and a review of the company's background and history. Therefore, pursuant to 21 U.S.C. 952(a) and § 958(a), and in accordance with 21 CFR 1301.34, the above named company is granted registration as an importer of the basic classes of controlled substances listed.

Dated: March 16, 2010.
Joseph T. Rannazzisi,
Deputy Assistant Administrator, Office of Diversion Control, Drug Enforcement Administration.

[FR Doc. 2010-6418 Filed 3-23-10; 8:45 am]

BILLING CODE 4410-09-P